DEPARTMENT OF ENERGY

Federal Energy Regulatory Commission

[Docket No. AD18-8-000; Docket No. EL18-26-000]

EDF Renewable Energy, Inc. v. Reform of Affected System Coordination in the Generator Interconnection Process, Midcontinent Independent System Operator, Inc., Southwest Power Pool, Inc., and PJM Interconnection, L.L.C.; Supplemental Notice of Technical Conference

As announced in the Notice of Technical Conference issued in this proceeding on February 2, 2018 and the Supplemental Notice of Technical Conference issued on February 27, 2018, the Federal Energy Regulatory Commission (Commission) will convene a staff-led technical conference in the above-referenced proceeding on Tuesday and Wednesday, April 3-4, 2018 from 9:30 a.m. to 4:30 p.m. (ET). The conference will be held in the Commission Meeting Room at Commission headquarters, 888 First Street NE, Washington, DC 20426. Commissioners may attend and participate. The purpose of this conference is to discuss issues related to the coordination of affected systems that have been raised in the complaint filed by EDF Renewable Energy, Inc. against Midcontinent Independent System Operator, Inc., Southwest Power Pool, Inc., and PJM Interconnection, L.L.C. in Docket No. EL18-26-000 and in the Commission's Notice of Proposed Rulemaking (Generator Interconnection NOPR) on the interconnection process in Docket No. RM17-8-000. The first day of the conference will focus on questions specific to issues raised in the complaint filed in Docket No. EL18-26-000, while the second day of the conference will focus on the broader affected systems issues raised in the Generator Interconnection NOPR in Docket No. RM17-8-000.

An agenda with a list of selected speakers is attached and will be available in the Commission Calendar of Events at http://www.ferc.gov.

While this conference is not for the purpose of discussing other specific cases, we note that the discussions at the conference may address matters at issue in the following Commission proceedings that are either pending or within their rehearing period:

Internal MISO Generators v. Midcontinent Independent System Operator, Inc., Docket No. EL15-99-000;

EDF Renewable Energy, Inc. v. Midcontinent Independent System Operator, Inc., Docket No. EL18-55-000;

Southwest Power Pool, Inc., Docket No. ER18-421-000;

Midcontinent Independent System Operator, Inc., Docket No. ER18-636-000;

Midcontinent Independent System Operator, Inc., Docket No. ER16-1346-003;

Midcontinent Independent System Operator, Inc., Docket No. ER16-1817-004;

Midcontinent Independent System Operator, Inc., Docket No. EL18-17-000;

Midcontinent Independent System Operator, Inc., Docket No. ER17-156-002; and

TranSource, LLC v. PJM Interconnection, L.L.C., Docket No. EL15-79-001.

The conference will be open for the public to attend. Information on the technical conference will also be posted on the Calendar of Events on the Commission's website, http://www.ferc.gov, prior to the event. Advance registration is not required but is encouraged. Attendees may register at the following web page: http://www.ferc.gov/whats-new/registration/04-03-18-form.asp.

This event will be webcast and transcribed. Anyone with internet access can navigate to the “FERC Calendar” at www.ferc.gov and locate the technical conference in the Calendar of Events. Opening the technical conference in the Calendar of Events will reveal a link to its webcast. The Capitol Connection provides technical support for the webcast and offers the option of listening to the meeting via phone-bridge for a fee. If you have any questions, visit www.capitolconnection.org or call 703-993-3100. The webcast will be available on the Calendar of Events at www.ferc.gov for three months after the conference. Transcripts of the conference will be immediately available for a fee from Ace-Federal Reporters, Inc. (202-347-3700).

Commission conferences are accessible under section 508 of the Rehabilitation Act of 1973. For accessibility accommodations, please send an email to accessibility@ferc.gov or call toll free 1-866-208-3372 (voice) or 202-502-8659 (TTY), or send a fax to 202-208-2106 with the required accommodations.

For more information about this technical conference, please contact:

Sarah McKinley (Logistical Information), Office of External Affairs, (202) 502-8004, Sarah.Mckinley@ferc.gov

Myra Sinnott (Technical Information), Office of Energy Policy and Innovation, (202) 502-6033, Myra.Sinnott@ferc.gov

Kathleen Ratcliff (Technical Information), Office of Energy Market Regulation, (202) 502-8018, Kathleen.Ratcliff@ferc.gov

Lina Naik (Legal Information), Office of the General Counsel, (202) 502-8882, Lina.Naik@ferc.gov

Dated: March 26, 2018.
Kimberly D. Bose,
Secretary.

[FR Doc. 2018-06687 Filed 4-2-18; 8:45 am]

BILLING CODE 6717-01-P